NATIONAL SCIENCE FOUNDATION

Advisory Committee for Geosciences; Notice of Meeting

In accordance with the Federal Advisory Committee Act (Pub. L. 92-463), as amended), the National Science Foundation announces the following meeting:

Name: Advisory Committee for Geosciences (1755).

Dates/Time: 9-5:30 p.m. Wednesday, May 3, 2006. 8:30 a.m.-12 noon. Friday, May 5, 2006.

Place: National Science Foundation, 4201 Wilson Boulevard, Room 375, Arlington, VA 22230.

Type of Meeting: Open.

FOR FURTHER INFORMATION CONTACT: Dr. Thomas Spence, Directorate for Geosciences, National Science Foundation, Suite 705, 4201 Wilson Boulevard, Arlington, Virginia 22230, Phone 703-292-8500.

Minutes: May be obtained from the contact person listed above.

Purpose of Meeting: To provide advice, recommendations, and oversight concerning support for research, education, and human resources development in the geosciences.

Agenda:

Day 1: Directorate Activities; Subcommittee Meetings.

Day 2: Subcommittee Reports; Directorate Activities.

Day 3: Plans and Activities.

Dated: April 18, 2006.
Susanne Bolton,
Committee Management Officer.

[FR Doc. 06-3816 Filed 4-20-06; 8:45 am]

BILLING CODE 7555-01-M